SUSQUEHANNA RIVER BASIN COMMISSION

Projects Approved or Rescinded for Consumptive Uses of Water

AGENCY: Susquehanna River Basin Commission.

ACTION: Notice.

SUMMARY: This notice lists the projects approved or rescinded by rule by the Susquehanna River Basin Commission during the period set forth in DATES.

DATES: January 1, 2011, through February 28, 2011.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval or rescission for the consumptive use of water pursuant to the Commission's approval by rule process set forth in 18 CFR 806.22(f) for the time period specified above:

Approvals by Rule Issued Under 18 CFR 806.22(f)

1. EQT Production Company, Pad ID: Bearer, ABR-201101001, Susquehanna and Elder Townships, Cambria County, Pa.; Consumptive Use of up to 3.000 mgd; Approval Date: January 4, 2011.

2. Chesapeake Appalachia, LLC, Pad ID: Wasyl, ABR-201101002, Ulster Township, Bradford County, Pa.; Consumptive Use of up to 7.500 mgd; Approval Date: January 10, 2011.

3. Chesapeake Appalachia, LLC, Pad ID: Rocks, ABR-201101003, Overton Township, Bradford County, Pa.; Consumptive Use of up to 7.500 mgd; Approval Date: January 10, 2011.

4. Ultra Resources, Inc., Pad ID: Granger 850, ABR-201101004, Gaines Township, Tioga County, Pa.; Consumptive Use of up to 4.990 mgd; Approval Date: January 10, 2011.

5. Chesapeake Appalachia, LLC, Pad ID: Meng, ABR-201101005, Albany Township, Bradford County, Pa.; Consumptive Use of up to 7.500 mgd; Approval Date: January 11, 2011.

6. Chesapeake Appalachia, LLC, Pad ID: Gunn, ABR-201101006, Rome Township, Bradford County, Pa.; Consumptive Use of up to 7.500 mgd; Approval Date: January 12, 2011.

7. SWEPI, LP, Pad ID: Knowlton 303, ABR-201101007, Charleston Township, Tioga County, Pa.; Consumptive Use of up to 4.000 mgd; Approval Date: January 13, 2011.

8. SWEPI, LP, Pad ID: Stratton 885, ABR-201101008, Farmington Township, Tioga County, Pa.; Consumptive Use of up to 4.000 mgd; Approval Date: January 13, 2011.

9. SWEPI, LP, Pad ID: Bielski 628, ABR-201101009, Richmond Township, Tioga County, Pa.; Consumptive Use of up to 4.000 mgd; Approval Date: January 13, 2011.

10. SWEPI, LP, Pad ID: Violet Bieser Revoc Liv Tr 833, ABR-201101010, Chatham Township, Tioga County, Pa.; Consumptive Use of up to 4.000 mgd; Approval Date: January 14, 2011.

11. SWEPI, LP, Pad ID: Baker 1105, ABR-201101011, Deerfield Township, Tioga County, Pa.; Consumptive Use of up to 4.000 mgd; Approval Date: January 14, 2011.

12. Chesapeake Appalachia, LLC, Pad ID: Beech Flats, ABR-201101012, West Branch and Potter Townships, Potter County, Pa.; Consumptive Use of up to 7.500 mgd; Approval Date: January 14, 2011.

13. Chesapeake Appalachia, LLC, Pad ID: Aukema, ABR-201101013, Meshoppen Township, Wyoming County, Pa.; Consumptive Use of up to 7.500 mgd; Approval Date: January 14, 2011.

14. Chief Oil & Gas LLC, Pad ID: Dacheux Drilling Pad #1, ABR-201101014, Cherry Township, Sullivan County, Pa.; Consumptive Use of up to 2.000 mgd; Approval Date: January 20, 2011.

15. Chesapeake Appalachia, LLC, Pad ID: Fausto, ABR-201101015, Litchfield Township, Bradford County, Pa.; Consumptive Use of up to 7.500 mgd; Approval Date: January 20, 2011.

16. Chesapeake Appalachia, LLC, Pad ID: Bo, ABR-201101016, Tuscarora Township, Bradford County, Pa.; Consumptive Use of up to 7.500 mgd; Approval Date: January 20, 2011.

17. Chesapeake Appalachia, LLC, Pad ID: Struble, ABR-201101017, Litchfield Township, Bradford County, Pa.; Consumptive Use of up to 7.500 mgd; Approval Date: January 20, 2011.

18. Seneca Resources Corporation, Pad ID: DCNR Tract 001 Pad F, ABR-201101018, Sweden Township, Potter County, Pa.; Consumptive Use of up to 4.000 mgd; Approval Date: January 20, 2011.

19. Talisman Energy USA Inc., Pad ID: 05 178 Peck Hill Farm, ABR-201101019, Windham Township, Bradford County, Pa.; Consumptive Use of up to 6.000 mgd; Approval Date: January 20, 2011.

20. Chief Oil & Gas LLC, Pad ID: Smithmyer Drilling Pad #1, ABR-201101020, Clearfield Township, Cambria County, Pa.; Consumptive Use of up to 2.000 mgd; Approval Date: January 21, 2011.

21. Chesapeake Appalachia, LLC, Pad ID: DJ, ABR-201101021, Wysox Township, Bradford County, Pa.; Consumptive Use of up to 7.500 mgd; Approval Date: January 21, 2011.

22. Chesapeake Appalachia, LLC, Pad ID: VRGC, ABR-201101022, Wilmot Township, Bradford County, Pa.; Consumptive Use of up to 7.500 mgd; Approval Date: January 21, 2011.

23. Chief Oil & Gas LLC, Pad ID: Andrus Drilling Pad #1, ABR-201101023, Granville Township, Bradford County, Pa.; Consumptive Use of up to 2.000 mgd; Approval Date: January 21, 2011.

24. EXCO Resources (PA), LLC, Pad ID: Hake Pad 53, ABR-201101024, Morris Township, Clearfield County, Pa.; Consumptive Use of up to 8.000 mgd; Approval Date: January 26, 2011.

25. Chesapeake Appalachia, LLC, Pad ID: Bustin Homestead, ABR-201101025, Sheshequin Township, Bradford County, Pa.; Consumptive Use of up to 7.500 mgd; Approval Date: January 26, 2011.

26. Chesapeake Appalachia, LLC, Pad ID: Joyce Road, ABR-201101026, Rome Township, Bradford County, Pa.; Consumptive Use of up to 7.500 mgd; Approval Date: January 26, 2011.

27. Enerplus Resources (USA) Corporation, Pad ID: Winner 1, ABR-201101027, West Keating Township, Clinton County, Pa.; Consumptive Use of up to 4.000 mgd; Approval Date: January 26, 2011.

28. Chesapeake Appalachia, LLC, Pad ID: Beeman, ABR-201101028, Litchfield Township, Bradford County, Pa.; Consumptive Use of up to 7.500 mgd; Approval Date: January 28, 2011.

29. Southwestern Energy Production Company, Pad ID: Longacre Pad, ABR-201101029, Jackson Township, Susquehanna County, Pa.; Consumptive Use of up to 4.990 mgd; Approval Date: January 28, 2011.

30. Chesapeake Appalachia, LLC, Pad ID: Walker, ABR-201101030, Wilmot Township, Bradford County, Pa.; Consumptive Use of up to 7.500 mgd; Approval Date: January 31, 2011.

31. Chesapeake Appalachia, LLC, Pad ID: Cuthbertson, ABR-201102001, Wilmot Township, Bradford County, Pa.; Consumptive Use of up to 7.500 mgd; Approval Date: February 3, 2011.

32. Seneca Resources Corporation, Pad ID: DCNR 100 Pad D, ABR-201102002, McIntyre Township, Lycoming County, Pa.; Consumptive Use of up to 4.000 mgd; Approval Date: February 4, 2011.

33. Seneca Resources Corporation, Pad ID: DCNR 001 Pad G, ABR-201102003, Sweden Township, Potter County, Pa.; Consumptive Use of up to 4.000 mgd; Approval Date: February 7, 2011.

34. Chesapeake Appalachia, LLC, Pad ID: Taffe, ABR-201102004, Wilmot Township, Bradford County, Pa.; Consumptive Use of up to 7.500 mgd; Approval Date: February 7, 2011.

35. Chesapeake Appalachia, LLC, Pad ID: Jokah, ABR-201102005, Windham Township, Wyoming County, Pa.; Consumptive Use of up to 7.500 mgd; Approval Date: February 7, 2011.

36. Chesapeake Appalachia, LLC, Pad ID: Harnish, ABR-201102006, Sheshequin Township, Bradford County, Pa.; Consumptive Use of up to 7.500 mgd; Approval Date: February 8, 2011.

37. Seneca Resources Corporation, Pad ID: DCNR 100 Pad C, ABR-201102007, Cogan House Township, Lycoming County, Pa.; Consumptive Use of up to 4.000 mgd; Approval Date: February 8, 2011.

38. Talisman Energy USA Inc., Pad ID: 05 081 Uhouse D, ABR-201102008, Orwell Township, Bradford County, Pa.; Consumptive Use of up to 6.000 mgd; Approval Date: February 8, 2011.

39. Talisman Energy USA Inc., Pad ID: 05 181 Peck Hill Farm, ABR-201102009, Windham Township, Bradford County, Pa.; Consumptive Use of up to 6.000 mgd; Approval Date: February 10, 2011.

40. SWEPI, LP, Pad ID: MY TB INV LLC 891, ABR-201102010, Deerfield Township, Tioga County, Pa.; Consumptive Use of up to 4.000 mgd; Approval Date: February 10, 2011.

41. Chesapeake Appalachia, LLC, Pad ID: Corl, ABR-201102011, Colley Township, Sullivan County, Pa.; Consumptive Use of up to 7.500 mgd; Approval Date: February 10, 2011.

42. Chesapeake Appalachia, LLC, Pad ID: Rinker, ABR-201102012, Elkland Township, Sullivan County, Pa.; Consumptive Use of up to 7.500 mgd; Approval Date: February 11, 2011.

43. SWEPI, LP, Pad ID: Smith 606, ABR-201102013, Duncan Township, Tioga County, Pa.; Consumptive Use of up to 4.000 mgd; Approval Date: February 16, 2011.

44. SWEPI, LP, Pad ID: Kuhl 529, ABR-201102014, Richmond Township, Tioga County, Pa.; Consumptive Use of up to 4.000 mgd; Approval Date: February 16, 2011.

45. SWEPI, LP, Pad ID: Stanley 1106, ABR-201102015, Osceola Township, Tioga County, Pa.; Consumptive Use of up to 4.000 mgd; Approval Date: February 16, 2011.

46. SWEPI, LP, Pad ID: Cole 495, ABR-201102016, Richmond Township, Tioga County, Pa.; Consumptive Use of up to 4.000 mgd; Approval Date: February 16, 2011.

47. SWEPI, LP, Pad ID: Bowers 838, ABR-201102017, Chatham Township, Tioga County, Pa.; Consumptive Use of up to 4.000 mgd; Approval Date: February 16, 2011.

48. SWEPI, LP, Pad ID: Boroch 477, ABR-201102018, Charleston Township, Tioga County, Pa.; Consumptive Use of up to 4.000 mgd; Approval Date: February 16, 2011.

49. SWEPI, LP, Pad ID: Fenton 473, ABR-201102019, Charleston Township, Tioga County, Pa.; Consumptive Use of up to 4.000 mgd; Approval Date: February 16, 2011.

50. Talisman Energy USA Inc., Pad ID: 05 100 Dewing R, ABR-201102020, Warren Township, Bradford County, Pa.; Consumptive Use of up to 6.000 mgd; Approval Date: February 17, 2011.

51. Carrizo Marcellus, LLC, Pad ID: Yarasavage Well Pad, ABR-201102021, Washington Township, Wyoming County, Pa.; Consumptive Use of up to 2.100 mgd; Approval Date: February 17, 2011.

52. Southwestern Energy Production Company, Pad ID: Gerfin Pad, ABR-201102022, Lenox Township, Susquehanna County, Pa.; Consumptive Use of up to 4.990 mgd; Approval Date: February 17, 2011.

53. EQT Production Company, Pad ID: Doe, ABR-201102023, Shippen Township, Cameron County, Pa.; Consumptive Use of up to 3.000 mgd; Approval Date: February 17, 2011.

54. EQT Production Company, Pad ID: Whippoorwill, ABR-201102024, Shippen Township, Cameron County, Pa.; Consumptive Use of up to 3.000 mgd; Approval Date: February 17, 2011.

55. Chesapeake Appalachia, LLC, Pad ID: Lantz, ABR-201102025, Sheshequin Township, Bradford County, Pa.; Consumptive Use of up to 7.500 mgd; Approval Date: February 17, 2011.

56. Chesapeake Appalachia, LLC, Pad ID: Herr, ABR-201102026, Sheshequin Township, Bradford County, Pa.; Consumptive Use of up to 7.500 mgd; Approval Date: February 17, 2011.

57. Cabot Oil & Gas Corporation, Pad ID: KrisuleviczV P1, ABR-201102027, Auburn Township, Susquehanna County, Pa.; Consumptive Use of up to 3.575 mgd; Approval Date: February 23, 2011.

58. Southwestern Energy Production Company, Pad ID: Sheldon Pad, ABR-201102028, Jackson Township, Susquehanna County, Pa.; Consumptive Use of up to 4.990 mgd; Approval Date: February 23, 2011.

59. Pennsylvania General Energy Company, LLC, Pad ID: Pine Hill Pad C Wharton, ABR-201102029, Wharton Township, Potter County, Pa.; Consumptive Use of up to 3.000 mgd; Approval Date: February 23, 2011.

60. Chief Oil & Gas LLC, Pad ID: American Asphalt Drilling Pad #1, ABR-201102030, Eaton Township, Wyoming County, Pa.; Consumptive Use of up to 2.000 mgd; Approval Date: February 24, 2011.

61. Seneca Resources Corporation, Pad ID: Covington Pad M, ABR-201102031, Covington Township, Tioga County, Pa.; Consumptive Use of up to 4.000 mgd; Approval Date: February 25, 2011.

62. Chief Oil & Gas LLC, Pad ID: Garrison Drilling Pad #1, ABR-201102032, Lemon Township, Wyoming County, Pa.; Consumptive Use of up to 2.000 mgd; Approval Date: February 25, 2011.

63. Williams Production Appalachia LLC, Pad ID: Knapik Well Pad, ABR-201102033, Liberty Township, Susquehanna County, Pa.; Consumptive Use of up to 4.000 mgd; Approval Date: February 28, 2011.

64. Williams Production Appalachia LLC, Pad ID: Hayes Well Pad, ABR-201102034, Silver Lake Township, Susquehanna County, Pa.; Consumptive Use of up to 4.000 mgd; Approval Date: February 28, 2011.

65. Williams Production Appalachia LLC, Pad ID: Herman Well Pad, ABR-201102035, Franklin Township, Susquehanna County, Pa.; Consumptive Use of up to 4.000 mgd; Approval Date: February 28, 2011.

66. Southwestern Energy Production Company, Pad ID: Demento Pad, ABR-201102036, Stevens Township, Bradford County, Pa.; Consumptive Use of up to 4.990 mgd; Approval Date: February 28, 2011.

Rescinded Approval by Rule Issued Under 18 CFR 806.22(f)

1. EnCana Oil & Gas (USA), Inc., Pad ID: Farrell 1H, ABR-20100218, Lake Township, Luzerne County, Pa.; Consumptive Use of up to 1.000 mgd; Rescinded Date: February 16, 2011.

2. EnCana Oil & Gas (USA), Inc., Pad ID: Lansberry Perry 1V, ABR-20100227, Lehman Township, Luzerne County, Pa.; Consumptive Use of up to 1.000 mgd; Rescinded Date: February 16, 2011.

3. EnCana Oil & Gas (USA), Inc., Pad ID: 4P, ABR-201011016, Lake Township, Luzerne County, Pa.; Consumptive Use of up to 1.200 mgd; Rescinded Date: February 16, 2011.

4. EnCana Oil & Gas (USA), Inc., Pad ID: Kent North, ABR-201011038, Fairmount Township, Luzerne County, Pa.; Consumptive Use of up to 1.200 mgd; Rescinded Date: February 16, 2011.

5. EnCana Oil & Gas (USA), Inc., Pad ID: Kent South, ABR-201011039, Fairmount Township, Luzerne County, Pa.; Consumptive Use of up to 1.200 mgd; Rescinded Date: February 16, 2011.

6. Chief Oil & Gas, LLC, Pad ID: Vollers Drilling Pad #1, ABR-2011005, Elkland Township, Sullivan County, Pa.; Consumptive Use of up to 2.000 mgd; Rescinded Date: February 16, 2011.

7. Eastern Shore Natural Gas Company, Mainline Extension Interconnect Project, ABR-201007001, Salisbury Township and West Sadsbury Township, Lancaster County and Chester County, Pa.; Consumptive Use of up to 0.300 mgd; Rescinded Date: February 28, 2011.

Authority: Pub. L. 91-575, 84 Stat. 1509 et seq., 18 CFR Parts 806, 807, and 808.

Dated: April 5, 2011.
Stephanie L. Richardson,
Secretary to the Commission.

[FR Doc. 2011-8957 Filed 4-12-11; 8:45 am]

BILLING CODE 7040-01-P